DEPARTMENT OF COMMERCE

International Trade Administration

[A-570-846]

Final Results of Expedited Sunset Review: Brake Rotors from the People's Republic of China

AGENCY: Import Administration, International Trade Administration, Department of Commerce.

ACTION: Notice of Final Results of Expedited Sunset Reviews: Brake Rotors from the People's Republic of China.

SUMMARY: On March 1, 2002, the Department of Commerce (“the Department”) published the notice of initiation of a five-year sunset review of the antidumping duty order on brake rotors from the People's Republic of China (“PRC”) pursuant to section 751(c) of the Tariff Act of 1930, as amended (“the Act”).¹ On the basis of a notice of intent to participate and adequate substantive comments filed on behalf of domestic interested parties, and inadequate response (in this case, no response) from respondent interested parties, the Department determined to conduct an expedited sunset review of this antidumping duty order. As a result of this review, the Department finds that revocation of the antidumping duty order would likely lead to continuation or recurrence of dumping at the levels listed below in the “Final Results of Review” section of this notice.

¹ Notice of Initiation of Five Year “Sunset” Reviews, 67 FR 9439 (March 1, 2002).

EFFECTIVE DATE: July 9, 2002.

FOR FURTHER INFORMATION CONTACT: Martha V. Douthit or James P. Maeder, Jr., Office of Policy for Import Administration, International Trade Administration, U.S. Department of Commerce, 14th Street and Constitution Avenue, NW, Washington, D.C. 20230; telephone: (202) 482-5050 or (202) 482-3330, respectively.

SUPPLEMENTARY INFORMATION:

Statute and Regulations:

This review is conducted pursuant to sections 751(c) and 752 of the Act. The Department's procedures for the conduct of sunset reviews are set forth in Procedures for Conducting Five-year ( “Sunset”) Reviews of Antidumping and Countervailing Duty Orders, 63 FR 13516 (March 20, 1998) (“Sunset Regulations”), and in 19 CFR Part 351 (2001) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Scope of Review

The product covered by this antidumping duty order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in the order are not certified by OEM producers of vehicles sold in the United States. The scope also includes composite brake rotors that are made of gray cast iron, which contain a steel plate, but otherwise meet the above criteria. Excluded from the scope of the order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.50.10 of the Harmonized Tariff Schedule of the United States (“HTSUS”). Although the HTSUS subheading is provided for convenience and Customs purposes, the written description of the merchandise subject to the order is dispositive.

Background

On March 1, 2002, the Department published the notice of initiation the five-year sunset review of the antidumping duty order on brake rotors from the PRC in accordance with section 751(c) of the Act.² On March 18, 2002 the Department received a Notice of Intent to Participate on behalf of the Coalition for the Preservation of American Brake Drum and Rotor Aftermarket Manufacturers (collectively, “the domestic interested parties”)³ as specified in section 351.218(d)(1)(i) of the Sunset Regulations. The domestic interested parties claimed interested party status under section 771(9)(C) of the Act.

² Antidumping and Countervailing Duties: Five Year Reviews, (67 FR 9439) March 1, 2002

³ Although the Coalition"s membership has changed, current members include: Dana Corporation, Brake and Chassis Division (formerly Brake Parts, Inc.); and Federal Mogul Corporation ( successor to Wagner Brake Corporation/Moog and Waupaca foundry, Inc.). Brake Parts, Inc. and Wagner Brakes have undergone corporate reorganization and are now known as Dana Corporation and Federal Mogul, Inc.

On April 1, 2002, the Department received a complete substantive response from the domestic interested parties, as specified in the Sunset Regulations under section 351.218(d)(3)(i). The Department did not receive a substantive response from any respondent interested party in the proceeding. Consequently, pursuant to section 751(c)(3)(B) of the Act, and 19 CFR 351.218(e)(1)(ii)(C), on April 10, 2002, the Department notified the International Trade Commission (“Commission”) that we were conducting an expedited sunset review (120 - day) of the antidumping duty order.

Analysis of Comments Received

All issues raised by the domestic interested parties to this sunset review are addressed in the Issues and Decision Memorandum (“Decision Memorandum”) from Jeffrey A. May, Director, Office of Policy, Import Administration, to Faryar Shirzad, Assistant Secretary for Import Administration, dated July 1, 2002, which is adopted by this notice. The issues discussed in the Decision Memorandum include the likelihood of continuation or recurrence of dumping and the magnitude of the margins likely to prevail were the order revoked. Parties can find a complete discussion of all issues raised in this review and the corresponding recommendations in this public memorandum which is on file in the Central Records Unit, room B-099, of the Department's main building.

In addition, a complete version of the Decision Memorandum can be accessed directly on the Web at http://ia.ita.doc.gov/frn, under the heading “July 2002.” The paper copy and electronic version of the Decision Memorandum are identical in content.

Final Results of Review

We determine that revocation of the antidumping duty order on brake rotors from the PRC would likely lead to continuation or recurrence of dumping at the following percentage weighted-average margins:

Exporter/Manufacturer/Producers | Weighted-Average Margin (percent)
China National Automotive Industry Import & Export Corporation (“CAIEC”) and Shandong Laizhou CAPCO Industry (“Laizhou CAPCO”) / CAIEC and Laizhou CAPCO | Excluded
Shenyang Honbase Machinery Co., Ltd. (“Shenyang Honbase”) and Lai Zhou Luyuan Automobile Fittings Co., Ltd. (“Laizhou Luyuan”) | Excluded
China National Machinery and Equipment Import & Export (“Xinjiang”) Corporation, Ltd. (“Xinjiang”)/ Zibo Botai Manufacturing Co., Ltd. (“Zibo”) | Excluded
Yantai Import & Export Corporation (“Yantai”) | 3.56
Southwest Technical Import & Export Corporation (“Southwest”),Yangtze Machinery Corporation, and MMB International, Inc. | 16.07
Hebei Metals and Minerals Import & Export Corporation (“Hebei”) | 8.51
Jilin Provincial Machinery & Equipment Import & Export Corporation (“Jilin”) | 8.51
Shandong Jiuyang Enterprise Corporation (“Jiuyang”) | 8.51
Longjing Walking Tractor Works Foreign Trade Import & Export Corporation (“Longjing”) | 8.51
Qingdao Metals, Minerals & Machinery Import & Export Corporation (“Qingdao”) | 8.51
Shanxi Machinery and Equipment Import & Export Corporation (“Shanxi”) | 8.51
Xianghe Zichen Casting Corporation, Ltd (“Xianghe”) | 8.51
Yenhere Corporation (“Yenhere) | 8.51
All Others | 43.32

This notice also serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: July 1, 2002.
Joseph A.Spetrini,
Acting Assistant Secretary for Import Administration.

[FR Doc. 02-17195 Filed 7-8-02; 8:45 am]

BILLING CODE 3510-DS-S